DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning information required by FEMA to revise National Flood Insurance Program (NFIP) Maps.

SUPPLEMENTARY INFORMATION: With the passage of the Flood Disaster Protection Act of 1973, an owner of a structure, with a federally backed mortgage, located in the 1-percent annual chance floodplain, was required to purchase federal flood insurance. This was in response to the escalating damage caused by flooding and the unavailability of flood insurance from commercial insurance companies. As part of this effort, FEMA mapped the 1-percent annual chance floodplain in communities. However, the 1-percent annual chance floodplain may change due to changes within the floodplain, or may be more accurately depicted through the use of more up-to-date methods and data. FEMA will issue a Letter of Map Revision (LOMR) to officially revise the 1-percent annual chance floodplain.

Collection of Information

Title: Revision to National Flood Insurance Program Maps: Application Forms for LOMRs and Conditional LOMRs.

Type of Information Collection: Revision of a currently approved collection.

OMB Number: 1660-0016.

Form Numbers: FEMA Forms 81-89, 81-89A, 81-89B, 81-89C, 81-89D, 81-89E.

Abstract: The certification forms (referred to as MT-2 series forms) are designed to assist requesters in gathering information that FEMA needs to revise a NFIP map. FEMA Form 81-89, Overview and Concurrence Form, describes the location of the request, what is being requested, and what data are required to support the request. In addition, NFIP regulations 44 CFR 65.5(a)(4) require that a community official certify that the request complies with minimum floodplain management criteria specified in 44 CFR 60.3. This form ensures that this requirement is fulfilled prior to the submittal of the request to FEMA. FEMA Form 81-89A, Riverine Hydrology and Hydraulics Form, allows FEMA to efficiently review assumptions made, parameters used, and the results of hydrologic and hydraulic analyses performed in support of a revision request. It also addresses more common regulatory issues; FEMA Form 81-89B, Riverine Structures Form, allows FEMA to efficiently review assumptions made, parameters used, and the results of revision requests involving new or modified structures in riverine flood hazard areas; FEMA Form 81-89C, Coastal Analysis Form, allows FEMA to efficiently review assumptions made, parameters used, and the results of coastal analyses performed in support of a revision request. It also addresses more common regulatory issues; FEMA Form 81-89D, Coastal Structures Form, allows FEMA to efficiently review assumptions made, parameters used, and the results of revision requests involving new or modified structures in coastal flood hazard areas; FEMA Form 81-89E, Alluvial Fan Flooding Form, allows FEMA to efficiently review assumptions made, parameters used, and the results of alluvial fan flooding analyses performed in support of a revision request.

Affected Public: Business and other for profit organization such as Land Surveyors or Engineering firms will primarily be affected by the collection. In addition, home owners, local or state officials may also be affected in some instances.

Estimated Total Annual Burden Hours: 24,360.

Annual Burden Hours
Project/activity (survey, form(s), focus group, worksheet, etc.) | Number of respondents | Frequency of responses | Burden hours per respondent | Annual responses | Total annual burden hours
| (A) | (B) | (C) | (D) = (A × B) | (E) = (C × D)
Form 81-89, Overview and Concurrence Form | 1,680 | Annual (1) | 1.0 | 1,680 | 1,680
Form 81-89A, Riverine Hydrology & Hydraulics Form | 1,680 | Annual (1) | 3.5 | 1,680 | 5,880
Form 81-89B, Riverine Structures Form | 1,680 | Annual (1) | 7.0 | 1,680 | 11,760
Form 81-89C, Coastal Analysis Form | 1,680 | Annual (1) | 1.0 | 1,680 | 1,680
Form 81-89D, Coastal Structures Form | 1,680 | Annual (1) | 1.0 | 1,680 | 1,680
Form 81-89E, Alluvial Fan Flooding Form | 1,680 | Annual (1) | 1.0 | 1,680 | 1,680
Total | * 1,680 |  | 14.5 | 10,080 | 24,360
* The number of respondents equals total number of collection packages received. Estimated number of collection packages received in a given year is 1,680.

Estimated Cost: Cost to respondent is estimated to be approximately $29.4 million annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 20, 2007.

ADDRESSES: Interested persons should submit written comments to Chief, Records Management and Privacy, Office of Management Directorate. Information Resources Management Branch, Information Technology Services Division, Federal Emergency Management Agency, 500 C Street, SW., Room 609, Washington, DC 20472.

FOR FURTHER INFORMATION CONTACT: Contact Ms. Cecelia Lynch, FEMA Federal Insurance and Mitigation Administration at (202) 646-7045 for additional information. You may contact the Records Management Branch for copies of the proposed collection of information at facsimile number (202) 646-3347 or e-mail address: FEMA-Information-Collections@dhs.gov.

Dated: June 7, 2007.
John A. Sharetts-Sullivan,
Chief, Records Management and Privacy, Office of Management Directorate, Information Technology Services Division, Information Resources Management Branch, Federal Emergency Management Agency, Department of Homeland Security.

[FR Doc. 07-3008 Filed 6-19-07; 8:45 am]

BILLING CODE 9110-11-P